DEPARTMENT OF TRANSPORTATION

Federal Highway Administration

Draft Environmental Impact Statement: Evansville, IN and Henderson, KY

AGENCY: Federal Highway Administration (FHWA), DOT.

ACTION: Notice of intent.

SUMMARY: The FHWA is issuing this notice to advise the public that an Environmental Impact Statement (EIS) will be prepared for the proposed I-69 corridor in the Evansville, Indiana and Henderson, Kentucky area.

FOR FURTHER INFORMATION CONTACT: Mr. Robert Dirks, Environmental Specialist, Federal Highway Administration, 575 North Pennsylvania Street, Room 254, Indianapolis, Indiana 46204. Telephone: (317) 226-7492, Fax: (317) 226-7341, e-mail: robert. dirks@fhwa. dot.gov.

SUPPLEMENTARY INFORMATION: The FHWA, in cooperation with the Indiana department of Transportation (INDOT), the Kentucky Transportation Cabinet (KYTC) and the Evansville Urban Transportation Study (EUTS), will prepare an EIS to determine a proposed route for the I-69 Corridor through the Evansville, Indiana-Henderson, Kentucky area, extending south from I-64 in Indiana to the Pennyrile Parkway in Kentucky. The proposed facility is anticipated to provide an interstate-type facility with two lanes in each direction (with the possibility of three lanes in each direction depending on forecasted traffic volumes) separated by a median. The study will build upon the previous Corridor 18 studies (the Feasibility Study, 1995; the Special Issues Study, 1997; and the Special Environmental Study, 2000), which identified a variety of environmental and location factors that must be considered prior to the construction of I-69 as an addition to the Interstate System. The EIS will discuss environmental, social, and economic impacts associated with the develoment of the proposed action.

Up to five (5) possible conceptual alternatives (including one (1) to the east and two (2) to the west of Evansville and Henderson, one (1) incorporating U.S. 41, and one (1) focusing on ITS (Intelligent Transportation Systems) strategies for existing US 41 and I-164 through Evansville and Henderson), as well as a no-build alternative, will be examined. The study will identify and consider potential impacts the project may have on natural, cultural, historic and other environmental resources. Early coordination meetings will be held with federal, state, regional and local resource agencies. An environmental “footprint” will be developed at the outset of the study, and will be made available at the initial public information meetings. These early public meetings will be held to solicit input from citizens and local officials prior to the development of detailed alternatives. A formal scoping meeting will be scheduled with the appropriate resource agencies to review the purpose and need and the conceptual alternatives to be considered. A second interagency meeting will be held to review the selection of alternatives to be retained for detailed study. A third interagency review meeting will be held to review the selected action and conceptual mitigation. Utilizing input from these agencies, input received at public meetings, and information obtained from field review, alternatives will be developed along with preliminary cost estimates for each of the alternatives. This information, along with environmental investigations, will be presented at a second series of public information meetings for review and public comment.

Following evaluation of public comments, alternatives will be refined and evaluated, a preferred alternative may be identified, and a Draft EIS will be prepared. Public hearings will then be held in accordance with all State and Federal requirements. Public notice will be given of the time and place of the public hearings. The Draft EIS will be available for public and agency review and comment. To ensure that the full range of issues related to the proposed action are addressed and that all significant issues are identified, comments and suggestions are invited from all interested parties. Comments or questions concerning this proposed action and the EIS should be directed to the FHWA contact at the address provided above.

State contacts | FHWA Division contacts
Indiana
Steve Cecil, Deputy Commissioner of Planning and Intermodal Transp., Indiana Department of Transportation, 100 North Senate Ave., Room N755, Indianapolis, IN 46204-2249; Phone: 317-232-5535; Fax: 317-232-0238; e-mail: scecil@indot.state.in.us | John Baxter, Division Administrator, Federal Highway Administration, 575 North Pennsylvania St., Room 254, Indianapolis, Indiana 46204; Phone: 317-226-7475; Fax: 317-226-7341; e-mail: john.baxter@fhwa.dot.gov
Kentucky
John Carr, Deputy State Highway Engineer, Kentucky Transportation Cabinet, State Office Building, Rm. 1005, 501 High Street, Frankfort, KY 40622; Phone: 502-564-3730; Fax: 502-564-2277; e-mail: jcarr@mail.kytc.state.ky.us | Jose Sepulveda, Division Administrator, Federal Highway Administration, 330 W. Broadway, Frankfort, KY 40601; Phone: 502-223-6720; Fax: 502-223-6735; e-mail: jose.sepulveda@fhwa.dot.gov

(Catalog of Federal Domestic Assistance Program No. 20.205, Highway Planning and Construction. The regulations implementing Executive Order 12372 regarding intergovernmental consultation on Federal programs and activities apply to the program).

Authority: 23 USC 315; 49 CFR 1.48.

Issued on: May 1, 2001.
Robert Dirks,
Environmental Specialist, FHWA, Indianapolis, Indiana.

[FR Doc. 01-11794 Filed 5-9-01; 8:45 am]

BILLING CODE 4910-22-M